DEPARTMENT OF AGRICULTURE

National Institute of Food and Agriculture

Solicitation of Input From Stakeholders Regarding the Capacity Building Grants for Non Land Grant Colleges of Agriculture Institutions Program

AGENCY: National Institute of Food and Agriculture (NIFA), USDA.

ACTION: Notice of public meeting and request for stakeholder input.

SUMMARY: The National Institute of Food and Agriculture (NIFA) is implementing a newly funded competitive grants program called the Capacity Building Grants for Non Land Grant Colleges of Agriculture (NLGCA) Institutions Program. By this notice, NIFA is designated to act on behalf of the Secretary of Agriculture in soliciting public comments and stakeholder input from interested parties regarding the development of the Capacity Building Grants for NLGCA Institutions Program.

DATES: The meeting will be held on March 26, 2012, from 9 a.m.-1 p.m.. All comments must be received by close of business on March 19, 2012.

ADDRESSES: The meeting will be held in room 1410A-D, Waterfront Centre Building, National Institute of Food and Agriculture, U.S. Department of Agriculture, 800 9th Street, SW., Washington, DC 20024. Meeting participants will need to provide photo identification to be admitted to the building. Please allow sufficient time to go through security.

You may submit comments, identified by NIFA-2012-0002, by any of the following methods:

Federal eRulemaking Portal: http://www.regulations.gov. Follow the instructions for submitting comments.

Email: tpowell@nifa.usda.gov. Include NIFA-2012-0002 in the subject line of the message.

Fax: (202) 720-2030.

Mail: Paper, disk or CD-ROM submissions should be submitted to NLGCA; Institute of Youth, Family, and Community; Division of Community and Education; National Institute of Food and Agriculture, U.S. Department of Agriculture; STOP 2251, 1400 Independence Avenue SW., Washington, DC 20250-2251.

Hand Delivery/Courier: NLGCA, Institute of Youth, Family, and Community; Division of Community and Education, National Institute of Food and Agriculture; U.S. Department of Agriculture, Room 4449, Waterfront Centre, 800 9th Street, SW., Washington, DC 20024.

Instructions: All submissions received must include the agency name and reference to NIFA-2012-0002. All comments received will be posted to http://www.regulations.gov, including any personal information provided.

FOR FURTHER INFORMATION CONTACT: Ms. Tamia Powell, (202) 720-1973 (phone), (202) 720-2030 (fax), or tpowell@nifa.usda.gov.

SUPPLEMENTARY INFORMATION:

Additional Meeting and Comment Procedures

Persons wishing to present oral comments at the March 26th, meeting is requested to pre-register by contacting Ms. Powell as directed above. Participants may reserve one 10-minute comment. More time may be available, depending on the number of people wishing to make a presentation and the time needed for questions following presentations. Reservations will be confirmed on a first-come, first-served basis. All other attendees may register at the meeting. All comments must be received by close of business March 19, 2012, to be considered. All comments and the official transcript of the meeting, when they become available, may be reviewed on the NIFA web page for six months. Participants who require a sign language interpreter or other special accommodations should contact Ms. Tamia Powell as directed above.

Background and Purpose

Section 1473F of the National Agricultural Research, Extension, and Teaching Policy Act of 1977 (NARETPA), (7 U.S.C. 3319i), authorizes the Secretary of Agriculture to make competitive grants to assist the NLGCA Institutions in maintaining and expanding their capacity to conduct education, research, and outreach activities relating to agriculture, renewable resources, and other similar disciplines.

NIFA is holding a public meeting to obtain comments to use in developing the Request for Applications (RFA) for the newly funded NGLCA. The meeting is open to the public. Written comments and suggestions may be submitted at the address above.

Summary of Non Land Grant Colleges of Agriculture

For fiscal year (FY) 2012, $5 million has been made available for the Capacity Building Grants for NLGCA Institutions program. NLGCA program funds will support efforts to maintain and expand the capacity of the NLGCA Institution to successfully compete for funds from Federal grants and other sources to carry out educational, research, and outreach activities that address priority concerns of national, regional, State, and local interest; to disseminate information relating to priority concerns to interested members of the agriculture, renewable resources, and other relevant communities; the public; and any other interested entity; and to encourage members of the agriculture, renewable resources, and other relevant communities to participate in priority education, research, and outreach activities by providing matching funding to leverage grant funds.

Implementation Plans

NIFA plans to consider stakeholder input received from this public meeting for developing the RFA. NIFA anticipates releasing a Request for Applications (RFA) by mid-May 2012.

Done at Washington, DC, this 25 day of January 2012.
Chavonda Jacobs-Young,
Acting Director, National Institute of Food and Agriculture.

[FR Doc. 2012-2101 Filed 1-31-12; 8:45 am]

BILLING CODE 3410-22-P